DEPARTMENT OF LABOR

Employment and Training Administration

[TA-W-61,177]

Bartech Group, Inc., Anderson, IN; Notice of Termination of Investigation

Pursuant to Section 221 of the Trade Act of 1974, as amended, an investigation was initiated on March 26, 2007 in response to a petition filed on behalf of workers of Bartech Group, Inc., Anderson, Indiana.

The petition regarding the investigation has been deemed invalid. The petition was signed by one dislocated worker of the subject firm. A petition filed by workers requires three signatures of workers at the subject firm. Consequently, the investigation has been terminated.

Signed at Washington, DC, this 19th day of April, 2007.
Richard Church,
Certifying Officer, Division of Trade Adjustment Assistance.

[FR Doc. E7-7967 Filed 4-25-07; 8:45 am]

BILLING CODE 4510-FN-P